DEPARTMENT OF HEALTH AND HUMAN SERVICES

Substance Abuse and Mental Health Services Administration

Center for Substance Abuse Treatment; Notice of Meeting

Pursuant to Pub. L. 92-463, notice is hereby given of a Teleconference Meeting of the Center for Substance Abuse Treatment (CSAT) National Advisory Council to be held in September 2001.

The meeting will include the review, discussion and evaluation of grant applications reviewed by the IRG. Therefore, the meeting will be closed to the public as determined by the SAMHSA Administrator, in accordance with Title 5 U.S.C. 552b(c)(6) and 5 U.S.C. App. 2, § 10(d).

Substantive program information, a summary of the meeting and roster of Council members may be obtained from the contact listed below.

If special accommodations are needed for persons with disabilities, please notify the Contact listed below.

Committee Name: Center for Substance Abuse Treatment, National Advisory Council.

Meeting Date: September 21, 2001.

Place: Center for Substance Abuse Treatment, 5515 Security Lane, 6th Floor Conference Room, Suite 615, Rockville, MD 20852.

Type: Closed: September 21, 2001—10-11 a.m.

Contact: Cynthia Graham, 5600 Fishers Lane, RW II, Ste 618, Rockville, MD 20857, Telephone: (301) 443-8923; FAX: (301) 480-6077. E-mail: cgraham@samhsa.gov

This notice is being published less than fifteen days prior to the meeting date, due to urgent needs to meet the timing limitation imposed by the review and funding cycle.

Dated: September 20, 2001.
Toian Vaughn,
Committee Management Officer, Substance Abuse and Mental Health Services Administration.

[FR Doc. 01-24036 Filed 9-25-01; 8:45 am]

BILLING CODE 4162-20-P